OFFICE OF THE UNITED STATES TRADE REPRESENTATIVE

Rectifications to the NAFTA Rules of Origin in the Harmonized Tariff Schedule of the United States

AGENCY: Office of the United States Trade Representative.

ACTION: Notice of rectifications to the NAFTA rules of origin in the Harmonized Tariff Schedule of the United States.

SUMMARY: The Office of the United States Trade Representative is providing notice of certain rectifications to the rules of origin for goods covered by the North American Free Trade Agreement (NAFTA), as set forth in the Harmonized Tariff Schedule of the United States (HTS). These rectifications are intended to maintain consistency between the HTS and the NAFTA rules or origin.

DATES: The effective date of the rectifications is March 1, 2000.

FOR FURTHER INFORMATION CONTACT: Rachel Shub, Associate General Counsel, (202) 395-7305, 600 17th Street, NW, Washington, DC 20508.

SUPPLEMENTARY INFORMATION: Through an exchange of letters in February 2000, the United States, Mexico, and Canada (the NAFTA Parties) agreed to certain technical rectifications to the rules of origin contained in Annexes 401 and 403.1 of the NAFTA. These rectifications are intended to maintain consistency between Annexes 401 and 403.1 and the tariff schedules of the NAFTA Parties. The appendix to this notice embodies these rectifications in the NAFTA rules or origin set forth in general note 12(t) of the HTS.

Proclamation 6969 of January 27, 1997 (62 FR 4415, January 29, 1997) authorized the United States Trade Representative (USTR) to exercise the authority provided to the President under Section 601 of the Trade Act of 1974 (the 1974 Act), as amended by Public Law 100-418, 88 Stat. 2073 (19 U.S.C. 2483), to embody rectifications, technical or conforming changes, or similar modifications in the HTS. Under authority vested in USTR by Proclamation 6969 and the authority vested in the President by the Constitution and the laws of the United States, including, but not limited to, section 604 of the 1975 Act and section 202(q) of the NAFTA Implementation Act (19 U.S.C. 3332(q)), the rectifications, technical or conforming changes, and similar modifications set forth in the appendix to this notice shall be embodied in the HTS with respect to goods entered, or withdrawn from warehouse for consumption, on or after March 1, 2000.

Dated: February 22, 2000.
Charlene Barshefsky,
United States Trade Representative.

Appendix

Effective with respect to goods entered, or withdrawn from warehouse for consumption, on or after March 1, 2000.

(1) General note 12(t) to the Harmonized Tariff Schedule of the United States is modified as follows:

(a) TCR 29.8 is modified by deleting “(A)” and by deleting subdivision (B) of such TCR together with its designation;

(b) TCR 85.5A is modified by deleting “tariff item,” and by inserting in lieu thereof “subheading,”,

(c) TCR 85.80(A) is modified by deleting “8471.92” and by inserting in lieu thereof “8471.60”;

(d) TCR 86.4(B) is modified by deleting “from tariff item” and by inserting in lieu thereof “from tariff items 8607.19.06 or”; and

(e) TCRs 87.40 through 87.42, inclusive, are deleted and the following new TCR is inserted in lieu thereof:

“40. | (A) A change to headings 8711 through 8713 from any other heading, including another heading within that group, except from heading 8714, or
| (B) A change to headings 8711 through 8713 from heading 8714, whether or not there is also a change from any other heading, including another heading within that group, provided there is a regional value content of not less than:
| (1) 60 percent where the transaction value method is used, or
| (2) 50 percent where the net cost method is used.”

(2) Chapter 29 of the HTS is modified by inserting in numerical sequence the following new subheading, with the article description at the same level of indentation as the article description of subheading 2905.49.10:

[2905 | Acyclic...:]
| [Other...:]
[2095.49 | Other:]
“2905.49.20 | Esters of glycerol formed with acids of heading 2904 | 8.2% | Free (A*, CA, E, IL, J, K, MX) | 54.5%”

Conforming change: General note 4(d) is modified by inserting in numerical sequence “2905.49.20 India”.

[FR Doc. 00-4539 Filed 2-25-00; 8:45 am]

BILLING CODE 3190-01-M